DEPARTMENT OF TRANSPORTATION

Federal Aviation Administration

14 CFR Part 71

[Docket No. FAA-2022-0826; Airspace Docket No. 21-AEA-21]

RIN 2120-AA66

Amendment and Establishment of Area Navigation (RNAV) Routes; Northeast United States

AGENCY: Federal Aviation Administration (FAA), DOT.

ACTION: Final rule.

SUMMARY: This action amends two low altitude Area Navigation (RNAV) routes (T-routes), and establishes one T-route, in support of the VHF Omnidirectional Range (VOR) Minimum Operational Network (MON) Program. The purpose is to enhance the efficiency of the National Airspace System (NAS) by transitioning from ground-based navigation aids to a satellite-based navigation system.

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2022-0826, in the Federal Register (87 FR 42395; July 15, 2022). Interested parties were invited to participate in this rulemaking effort by submitting written comments on the proposal. No comments were received.

United States RNAV T-routes are published in paragraph 6011, and Canadian T-routes are published in paragraph 6013, respectively, of FAA Order JO 7400.11G, dated August 19, 2022, and effective September 15, 2022 which is incorporated by reference in 14 CFR 71.1. The RNAV routes listed in this document will be subsequently published in FAA Order JO 7400.11.

Differences From the NPRM

The United States RNAV routes T-287 and T-318 are removed from this docket for additional planning and coordination. These routes will be placed in subsequent dockets at a later date.

The NPRM proposed to extend T-358 from the AVALO, NJ, Fix to the Augusta, ME (AUG), VHF Omnidirectional Range/Distance Measuring Equipment (VOR/DME). The proposed route extension after the AVALO Fix (from MANTA, NJ to Augusta, ME) was based on replacing various VORs scheduled for decommissioning under the VOR MON plan. Fixes or Waypoints (WPs) were to be added to T-358 in place of the VORs, however, the decommissioning of the associated VORs is not scheduled until later dates. Since the VORs are still available for navigation, it is premature to amend the routing at this time. As amended, T-358 extends from the Martinsburg, WV (MRB), VHF Omnidirectional Range and Tactical Air Navigational System (VORTAC) to the AVALO, NJ, Fix.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending two low altitude RNAV T-routes, designated T-358, and T-608, and establishing one T-route, designated T-320, in the northeast United States. This action supports the VOR MON Program, and the transition of the NAS from ground-based navigation aids to satellite-based navigation.

T-320: T-320 is a new route that extends between the GILFF, VA, WP and the Gardner, MA (GDM), VOR/DME. T-320 overlays portions of airway V-308 from the BILIT, MD, Fix, to the CHOPS, MD, Fix, and from the WNSTN, NJ, WP to the YANCT, CT, WP.

T-358: T-358 extends between the Martinsburg, WV (MRB), VORTAC, and the AVALO, NJ, Fix. The HOGZZ, MD, WP name is changed to the TWIRK, MD, WP per request from air traffic control (ATC). The latitude/longitude coordinates of the WP remain unchanged. The GOLDA, MD, Fix; the BROSS, MD, Fix; and the LEEAH, NJ, Fix are removed from the route description because they don't denote turn points on the route. However, the fixes will remain on aeronautical charts for ATC purposes.

T-608: T-608 is an existing Canadian T route that extends into U.S. airspace between the HOCKE, MI, WP, and the YANTC, CT, WP. This action modifies the eastern end of the route by removing the segments between the Gardner, MA (GDM), VOR/DME, and the YANCT, CT, WP. Instead, the route is realigned to proceed eastward from the Gardner VOR/DME through the BRONC, MA; LOBBY, MA; and SOSYO, MA, Fixes; to terminate at the REVER, MA, Fix (located 5 nautical miles north of the Boston, MA (BOS), VOR/DME). The new route T-320 (described above) incorporates the segments between the YANCT WP and the Gardner VOR/DME that are being removed from T-608.

In addition, the following points are removed from the T-608 legal description because they do not denote a turn point on the route: MONCK, NY, WP; LORTH, NY, Fix; MAGEN, NY, WP; KONDO, NY, WP; WIFFY, NY, WP; STODA, NY, WP; VASTS, NY, Fix; NORSE, NY, WP; MARIA, NY, WP; WARUV, NY, WP; GRISY, MA, WP; WARIC, MA, WP; HURLY, MA, Fix; GRAYM, MA, WP; BLATT, CT, WP; MOGUL, CT, WP; and YANCT, CT, WP.

Full route descriptions of the above T routes are listed in the amendments to part 71 set forth below.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending two, and establishing one low altitude Area Navigation (RNAV) T routes, as described above, in support of efforts transitioning the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6011 United States Area Navigation Routes.

* * * * *

T-320 GILFF, VA to Gardner, MA (GDM) [New]
GILFF, VA | WP | (Lat. 38°21′44.86″ N, long. 077°26′05.38″ W)
HIGPO, VA | WP | (Lat. 38°22′16.09″ N, long. 077°22′19.97″ W)
CAVDI, MD | WP | (Lat. 38°25′33.43″ N, long. 076°54′43.49″ W)
DAILY, MD | FIX | (Lat. 38°33′37.83″ N, long. 076°43′31.05″ W)
VAALI, MD | WP | (Lat. 38°44′00.85″ N, long. 076°26′38.26″ W)
BILIT, MD | FIX | (Lat. 38°45′15.82″ N, long. 076°03′57.59″ W)
CHOPS, MD | FIX | (Lat. 38°45′41.81″ N, long. 075°57′36.18″ W)
EGGRS, DE | WP | (Lat. 38°53′30.52″ N, long. 075°30′49.95″ W)
JILLI, NJ | WP | (Lat. 39°00′42.22″ N, long. 075°05′46.21″ W)
WNSTN, NJ | WP | (Lat. 39°05′43.81″ N, long. 074°48′01.20″ W)
MANTA, NJ | FIX | (Lat. 39°54′07.01″ N, long. 073°32′31.63″ W)
BEADS, NY | FIX | (Lat. 40°44′04.51″ N, long. 072°32′34.21″ W)
ORCHA, NY | WP | (Lat. 40°54′55.46″ N, long. 072°18′43.64″ W)
BOROS, NY | FIX | (Lat. 41°09′24.45″ N, long. 072°09′50.96″ W)
Groton, CT (GON) | VOR/DME | (Lat. 41°19′49.45″ N, long. 072°03′07.14″ W)
YANTC, CT | WP | (Lat. 41°33′22.81″ N, long. 071°59′56.95″ W)
Gardner, MA (GDM) | VOR/DME | (Lat. 42°32′45.31″ N, long. 072°03′29.48″ W)
* * * * * * *
T-358 Martinsburg, WV (MRB) to AVALO, NJ [Amended]
Martinsburg, WV (MRB) | VORTAC | (Lat. 39°23′08.06″ N, long. 077°50′54.08″ W)
CPTAL, MD | WP | (Lat. 39°32′16.02″ N, long. 077°41′55.65″ W)
TWIRK, MD | WP | (Lat. 39°34′36.70″ N, long. 077°12′44.75″ W)
MOYRR, MD | WP | (Lat. 39°30′03.42″ N, long. 076°56′10.84″ W)
DANII, MD | WP | (Lat. 39°17′46.42″ N, long. 076°42′19.36″ W)
OBWON, MD | WP | (Lat. 39°11′54.69″ N, long. 076°32′04.84″ W)
SWANN, MD | FIX | (Lat. 39°09′05.28″ N, long. 076°13′43.94″ W)
Smyrna, DE (ENO) | VORTAC | (Lat. 39°13′53.93″ N, long. 075°30′57.49″ W)
AVALO, NJ | FIX | (Lat. 39°16′54.52″ N, long. 074°30′50.75″ W)

* * * * *

Paragraph 6013 Canadian Area Navigation Routes.

* * * * *

T-608 HOCKE, MI to REVER, MA [Amended]
HOCKE, MI | WP | (Lat. 43°15′43.38″ N, long. 082°42′38.27″ W)
KATNO, Canada | WP | (Lat. 43°10′34.00″ N, long. 082°19′32.00″ W)
UKNIX, NY | WP | (Lat. 42°56′44.51″ N, long. 078°55′05.60″ W)
WOZEE, NY | WP | (Lat. 42°56′01.65″ N, long. 078°44′19.64″ W)
CLUNG, NY | WP | (Lat. 43°03′17.17″ N, long. 078°00′13.38″ W)
Rochester, NY (ROC) | VOR/DME | (Lat. 43°07′04.65″ N, long. 077°40′22.06″ W)
Syracuse, NY (SYR) | VORTAC | (Lat. 43°09′37.87″ N, long. 076°12′16.41″ W)
LAMMS, NY | WP | (Lat. 43°01′35.30″ N, long. 075°09′51.50″ W)
Albany, NY (ALB) | VORTAC | (Lat. 42°44′50.20″ N, long. 073°48′11.47″ W)
GRAVE, NY | WP | (Lat. 42°46′47.34″ N, long. 073°22′20.91″ W)
Gardner, MA (GDM) | VOR/DME | (Lat. 42°32′45.31″ N, long. 072°03′29.48″ W)
BRONC, MA | FIX | (Lat. 42°30′53.93″ N, long. 071°43′21.61″ W)
LOBBY, MA | FIX | (Lat. 42°30′15.53″ N, long. 071°36′34.04″ W)
SOSYO, MA | FIX | (Lat. 42°29′14.45″ N, long. 071°25′55.75″ W)
REVER, MA | FIX | (Lat. 42°26′27.48″ N, long. 070°57′41.31″ W)
Excluding the airspace within Canada.

* * * * *

Issued in Washington, DC, on December 1, 2022.
Scott M. Rosenbloom,
Manager, Airspace Rules and Regulations.

[FR Doc. 2022-26488 Filed 12-6-22; 8:45 am]

BILLING CODE 4910-13-P